ENVIRONMENTAL PROTECTION AGENCY

[EPA-HQ-OW-2018-0629; FRL-9983-25-OW]

Proposed Information Collection Request; Comment Request; “ICR Supporting Statement Information Collection Request for National Pollutant Discharge Elimination System (NPDES): Specific Provisions Affecting Applications and Program Updates Final Rule”

AGENCY: Environmental Protection Agency (EPA).

ACTION: Notice.

SUMMARY: The Environmental Protection Agency is planning to submit an information collection request (ICR), “ICR Supporting Statement Information Collection Request for National Pollutant Discharge Elimination System (NPDES): Specific Provisions Affecting Applications and Program Updates Final Rule” (EPA ICR No. 2575.01, OMB Control No. 2040-NEW) to the Office of Management and Budget (OMB) for review and approval in accordance with the Paperwork Reduction Act. Before doing so, the EPA is soliciting public comments on specific aspects of the proposed information collection as described below. This is a request for approval of a new collection. An Agency may not conduct or sponsor and a person is not required to respond to a collection of information unless it displays a currently valid OMB control number.

DATES: Comments must be submitted on or before November 5, 2018.

ADDRESSES: Submit your comments, referencing Docket ID No. EPA-HQ-OW-2018-0629 online using www.regulations.gov (our preferred method), by email to OW-Docket@epa.gov, or by mail to: The EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

FOR FURTHER INFORMATION CONTACT: Janita Aguirre, Water Permits Division, Office of Wastewater Management, Mail Code 4203M, Environmental Protection Agency, 1200 Pennsylvania Ave. NW, Washington, DC 20460; telephone number: 202-566-1149; email address: Aguirre.Janita@epa.gov; or, Frank Sylvester, Water Permits Division, Office of Wastewater Management, Mail Code 4203M, Environmental Protection Agency, 1200 Pennsylvania Ave. NW, Washington, DC 20460; telephone number: 202-564-1279; email address: Sylvester.Francis@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about the EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: On May 18, 2016, the EPA proposed the National Pollutant Discharge Elimination System (NPDES): Applications and Program Updates rule (81 FR 31343). The Spring 2018 Regulatory Agenda explained that the EPA would be finalizing the proposed rule in two separate but related actions. This first final rule will address a subset of the revisions proposed in 2016 to modernize the NPDES regulations, clarify regulatory requirements, and promote submission of complete permit applications. This ICR identifies the types of activities regulated and calculates the burden and associated costs of the revisions to be included in the first final rule, the National Pollutant Discharge Elimination System (NPDES): Specific Provisions Affecting Applications and Program Updates (RIN 2040-AF25), and corresponding updated NPDES permit application forms.

Form numbers: OMB. No. 2040-0004; OMB. No. 2040-0086; OMB. No. 2040-0188; OMB. No. 2040-0211; OMB. No. 2040-0250; OMB. No. 2040-0284; OMB. No. 1004-0189; OMB. No. 0596-0082.

Respondents/affected entities: The respondents affected by this collection activity include: The EPA; authorized state, territorial, and tribal programs; and the regulated community.

Respondent's obligation to respond: The collection is required pursuant to CWA section 402, as implemented by the revisions to 40 CFR parts 122, 124, and 125. Compliance with the updated application requirements and corresponding updated application forms is mandatory. The opportunity for NPDES permitting authorities to provide public notice of NPDES permit actions using the internet in lieu of the newspaper is voluntary.

Estimated number of respondents: 20,663 applicants/permittees; 20,019 state, territory, and tribal governments; 644 by the EPA (total: 41,326).

Frequency of response: The burden would be realized once within a five-year period, with the assumption that each permit would be reapplied for and renewed once every five years.

Total estimated burden: A reduction of 19,305 hours (per year). Burden is defined at 5 CFR 1320.03(b)

Total estimated cost: A savings of $2,524,064 (per year), includes a savings of $1,419,673 annualized capital or operation and maintenance costs.

Changes in estimates: There is an overall decrease of 19,305 hours in the total estimated respondent burden. This decrease is due to: Estimated burden reduction to both permittees and permitting authorities resulting from revised application forms that are easier to follow and redesigned to reduce confusion and support completion; permitting authorities exercising the option to publicly notice permitting decisions through public websites rather than through publication in newspapers, and; additional minor reductions in burden associated with permitting authority review of applications submitted by POTWs with pretreatment programs and applications submitted by permittees indicating the use of cooling water. These changes are due to changes in program requirements, as well as updated and improved NPDES permit application forms.

Dated: August 27, 2018.
Andrew D. Sawyers,
Director, Office of Wastewater Management.

[FR Doc. 2018-19142 Filed 8-31-18; 8:45 am]

BILLING CODE 6560-50-P